DEPARTMENT OF THE INTERIOR

Fish and Wildlife Service

[FWS-HQ-ES-2016-N159; FF09E15000-FXHC112509CBRA1-167]

John H. Chafee Coastal Barrier Resources System; Availability of Draft Maps for Louisiana, Puerto Rico, and the U.S. Virgin Islands; Request for Comments

AGENCY: Fish and Wildlife Service, Interior.

ACTION: Notice of availability; request for comments.

SUMMARY: The Coastal Barrier Resources Act (CBRA) requires the Secretary of the Interior (Secretary) to review the maps of the John H. Chafee Coastal Barrier Resources System (CBRS) at least once every 5 years and make any minor and technical modifications to the boundaries of the CBRS as are necessary to reflect changes that have occurred in the size or location of any CBRS unit as a result of natural forces. The U.S. Fish and Wildlife Service (Service) has conducted this review and has prepared draft revised maps for 14 CBRS units in Louisiana, all units in Puerto Rico, and all units in the U.S. Virgin Islands. The draft maps were produced by the Service as part of a CBRS “digital conversion” project that is done in partnership with the Federal Emergency Management Agency (FEMA). This notice announces the findings of the Service's review and request for comments on the draft revised maps from Federal, State, and local officials.

DATES: To ensure consideration, the Service must receive written comments by November 10, 2016.

ADDRESSES: Mail comments to Katie Niemi, Coastal Barriers Coordinator, U.S. Fish and Wildlife Service, Ecological Services Program, 5275 Leesburg Pike, MS: ES, Falls Church, VA 22041, or send comments by electronic mail (email) to CBRAcomments@fws.gov.

FOR FURTHER INFORMATION CONTACT: Katie Niemi, Coastal Barriers Coordinator; (703) 358-2071 (telephone); or CBRA@fws.gov (email).

SUPPLEMENTARY INFORMATION:

Background

Background information on the CBRA (16 U.S.C. 3501 et seq.) and the CBRS, as well as information on the digital conversion effort and the methodology used to produce the revised maps, can be found in a notice the Service published in the Federal Register on August 29, 2013 (78 FR 53467). However, there is one deviation from the methodology described in the 2013 notice. The Service was unable to obtain aerial imagery to serve as the CBRS base map for several areas in Puerto Rico that both meets the standards described in the 2013 notice (i.e., generally less than 5 years old, 1 meter per pixel resolution or better, orthorectified, and available free of charge) and is also free from cloud cover. In these cases (affecting eight CBRS maps in Puerto Rico), the Service substituted 2013 U.S. Geological Survey 7.5-minute topographic quadrangles for aerial imagery.

For information on how to access the draft revised maps, see Availability of Draft Maps and Related Information.

Proposed Modifications to the CBRS Boundaries

This notice fulfills a requirement under the CBRA (16 U.S.C. 3503(f)(3)) that the Secretary publish a notice in the Federal Register of any proposed revisions to the CBRS to reflect: (1) Changes that have occurred to the CBRS as a result of natural forces (e.g., erosion and accretion); (2) voluntary additions to the CBRS requested by property owners; or (3) additions of excess Federal property to the CBRS (as authorized under 16 U.S.C. 3503(c)-(e)).

The Service's review of 14 CBRS units in Louisiana, all units in Puerto Rico, and all units in the U.S. Virgin Islands resulted in a set of 65 draft revised maps, dated July 8, 2016, depicting a total of 121 CBRS units. The set of maps includes 31 maps for 14 CBRS units located in Louisiana; 28 maps for 70 CBRS units located in Puerto Rico; and 6 maps for 37 CBRS units located in the U.S. Virgin Islands. The Service's review of these areas found a total of 41 CBRS units that require modifications due to natural changes in the size or location of the units since they were last mapped.

Following the close of the comment period on the date listed in the DATES section of this document, the Service will review all comments received from Federal, State, and local officials on the draft maps; make adjustments to the draft maps, as appropriate; and publish a notice in the Federal Register to announce the availability of the final revised maps.

Below is a summary of the changes depicted on the draft revised maps.

Louisiana

The Service's review found 6 of the 14 CBRS units in Louisiana that are included in this review (Units LA-03P, LA-04P, LA-05P, LA-07, LA-08P, LA-09, LA-10, S01, S01A, S02, S08, S09, S10, and S11) to have changed due to natural forces.

The remaining seven Louisiana CBRS units not included in this review (Units LA-01, LA-02, S03, S04, S05, S06, and S07) were remapped and referenced in notices the Service published in the Federal Register on November 17, 2015 (80 FR 71826) and March 14, 2016 (81 FR 13407).

LA-03P: CHANDELEUR ISLANDS UNIT. A portion of the western boundary of the unit has been moved westward to account for the migration of the Chandeleur Islands and to include associated shoals within the unit. In some places, the boundary has been generalized due to a lack of remaining features in the area.

LA-05P: MARSH ISLAND/RAINEY UNIT. The northern boundary of the unit has been modified to account for wetland erosion along Vermilion Bay and West Cote Blanche Bay. The eastern boundary of the unit has been modified to account for wetland erosion along East Cote Blanche Bay. Due to the significant rate of erosion in this area, some of the boundaries have been generalized.

LA-10: CALCASIEU PASS UNIT. A portion of the northern boundary of the unit has been modified to account for wetland erosion along West Cove. Due to the significant rate of erosion in this area, some of the boundaries have been generalized.

S01: BASTIAN BAY COMPLEX. Portions of the eastern and northern boundaries of the unit have been modified and generalized due to wetland loss along Bay Jacques, Fleur Pond, Pipeline Canal, Scofield Bay, and Shell Island Bay. The western boundary coincident with Unit S01A has been moved eastward to account for accretion at the eastern end of an unnamed island between Bay Joe Wise and the Gulf of Mexico.

S01A: BAY JOE WISE COMPLEX. The eastern boundary coincident with Unit S01 has been moved eastward to account for accretion at the eastern end of an unnamed island between Bay Joe Wise and the Gulf of Mexico. The western boundary of the unit has been modified to account for the northward migration of an unnamed island between Bay Cheniere Ronquille and the Gulf of Mexico.

S10: MERMENTAU RIVER UNIT. A portion of the eastern boundary of the unit has been modified to account for shoreline erosion along the Gulf of Mexico near Beach Prong. The southern boundary of the excluded area at the western end of the unit has been modified to account for shoreline erosion along the Gulf of Mexico.

Puerto Rico

The Service's review found 22 of the 70 CBRS units in Puerto Rico to have changed due to natural forces. Maps for the following CBRS units in Puerto Rico are depicted on U.S. Geological Survey topographic quadrangles instead of aerial imagery: PR-07 PR-09P, PR-10, PR-45P, PR-49P, PR-61, PR-63P, PR-64P, and PR-65P.

PR-07: LAGUNA AGUAS PRIETAS UNIT. A portion of the excluded area boundary of the unit has been modified to account for natural changes that have occurred in the configuration of the shoreline along Laguna Aguas Prietas and the Atlantic Ocean.

PR-09P: RIO FAJARDO UNIT. Portions of the landward boundary of the unit have been modified to account for natural changes that have occurred in the configuration of the mangroves.

PR-10: PUNTA BARRANCAS UNIT. The northern boundary of the unit has been modified to account for natural changes that have occurred in the configuration of the mangroves.

PR-16P: PUERTO DEL MANGLAR UNIT. A portion of the eastern boundary of the unit has been modified to account for natural changes that have occurred in the configuration of the wetland/fastland interface.

PR-17P: ENSENADA SOMBE UNIT. A portion of the western boundary of the unit has been modified to account for natural changes that have occurred along the shoreline of Ensenada Sombe. Portions of the northeastern boundary were modified to account for natural changes that have occurred in the configuration of the shoreline of an unnamed ponding area.

PR-18P: CAYO ALGODONES UNIT. A portion of the northern boundary of the unit has been modified to account for natural changes that have occurred along an unnamed channel. A portion of the northeastern boundary has been modified to account for natural changes that have occurred in the configuration of the mangroves of Bosque Estatal De Ceiba.

PR-40: PUNTA TUNA UNIT. A portion of the northwestern boundary of the unit has been modified to account for natural changes that have occurred in the configuration of the mangroves.

PR-41: RIO MAUNABO UNIT. The western lateral boundary of the unit has been extended to clarify the extent of the unit. No modifications were made to the boundaries of this unit as a result of changes due to natural forces.

PR-45P: BAHIA DE JOBOS UNIT. A portion of the northwestern landward boundary of the unit has been modified to account for natural changes that have occurred in the configuration of the mangroves of Mar Negro.

PR-49P: PUNTA AGUILA UNIT. A portion of the northwestern boundary of the unit has been modified to account for natural changes that have occurred in the configuration of the shoreline along an unnamed bay.

PR-55: ISLA DEL FRIO UNIT. A portion of the landward boundary of the unit has been modified to account for natural changes that have occurred in the configuration of the shoreline along the Caribbean Sea.

PR-56: PUNTA CABULLONES UNIT. A portion of the landward boundary of the unit has been modified to account for natural changes that have occurred in the configuration of the mangroves.

PR-61: ENSENADA LAS PARDAS UNIT. The landward boundary of the unit has been modified to account for natural changes that have occurred in the configuration of the mangroves.

PR-63P: CAYO DON LUIS UNIT. The northeastern portion of the landward boundary of the unit has been modified to account for natural changes that have occurred along the shoreline of an unnamed ponding area.

PR-64P: BAHIA MONTALVA UNIT. A portion of the northeastern landward boundary of the unit has been modified to account for natural changes that have occurred along the shoreline of Bahia Montalva. Portions of the northwest and northeast landward boundary have been modified to account for natural changes that have occurred in the configuration of the mangroves. Portions of the excluded area boundary have been modified to account for natural changes that have occurred in the configuration of the wetland/fastland interface along Isla Matei.

PR-65P: ISLA CUEVA/GUAYACAN UNIT. Portions of the northeastern and northwestern landward boundary of the unit have been modified to account for natural changes that have occurred in the configuration of the mangroves.

PR-66: CABO ROJO UNIT. A portion of the northeastern boundary of the unit has been modified to account for natural changes that have occurred in the configuration of the shoreline of an unnamed lake.

PR-67P: BAHIA DE BOQUERON UNIT. A portion of the northwestern landward boundary of the unit has been modified to account for natural changes that have occurred in the configuration of the shoreline along Laguna Guaniquilla. A portion of the southeastern boundary has been modified to account for natural changes that have occurred along the shoreline of an island located in the channel of Caño Boquerón.

PR-69: PUNTA CARENERO UNIT. Portions of the landward boundary of the unit have been modified to account for natural changes that have occurred in the configuration of the wetland/fastland interface.

PR-83: TORTUGUERO UNIT. Portions of the landward boundary of the unit have been modified to account for natural changes that have occurred in the configuration of the wetland/fastland interface. Portions of the boundary have been modified to account for natural changes that have occurred along the shoreline of Laguna Tortuguero.

PR-84: PUNTA GARZA UNIT. A portion of the western boundary of the unit has been modified to account for natural changes that have occurred in the configuration of the mangroves.

PR-86P: PUNTA SALINAS UNIT. A portion of the northern boundary of the unit has been modified to account for natural changes that have occurred in the shoreline along Bahía Toa.

PR-87: PUNTA VACIA TALEGA UNIT. A portion of the southwestern boundary of the unit has been modified to account for natural changes that have occurred in the configuration of Canal Blasina. A portion of the southern boundary has been modified to account for natural changes that have occurred in the configuration of the wetland/fastland interface.

U.S. Virgin Islands

The Service's review found 13 of the 37 CBRS units in the U.S. Virgin Islands to have changed due to natural forces.

VI-01: RUST UP TWIST UNIT. Portions of the landward boundary of the unit have been modified to reflect natural changes that have occurred in the configuration of the wetland/fastland interface. The western lateral boundary has been extended offshore to clarify the extent of the unit.

VI-02: SALT RIVER BAY UNIT. Portions of the landward boundary of the unit have been modified to reflect natural changes that have occurred in the wetland/fastland interface.

VI-03: ALTONA LAGOON UNIT. Portions of the landward boundary of the unit have been modified to reflect natural changes that have occurred in the wetland/fastland interface.

VI-06: ROBIN BAY UNIT. A portion of the landward boundary of the unit has been modified to account for natural changes that have occurred in the configuration of the shoreline along an unnamed salt pond.

VI-09: KRAUSE LAGOON UNIT. A portion of the landward boundary of the unit has been modified to reflect natural changes that have occurred in the wetland/fastland interface. The eastern boundary of the unit has been modified to account for natural changes that have occurred along Krause Lagoon Channel.

VI-10: LONG POINT UNIT. A portion of the landward boundary of the unit has been modified to account for shoreline erosion along Long Point Bay.

VI-11: WESTEND SALTPOND UNIT. A portion of the northeastern boundary of the unit has been modified to account for shoreline erosion along Westend Saltpond.

VI-11P: WESTEND SALTPOND UNIT. Offshore boundaries have been added at the western end of the unit to clarify the extent of the unit. The eastern lateral boundary has been extended offshore to clarify the extent of the unit. No modifications were made to the boundaries of this unit as a result of changes due to natural forces.

VI-12P: CINNAMON BAY UNIT. A portion of the landward boundary of the unit has been modified to account for shoreline erosion along Cinnamon Bay.

VI-13P: MAHO BAY UNIT. A portion of the landward boundary of the unit has been modified to reflect natural changes that have occurred in the configuration of the wetland/fastland interface.

VI-15P: LEINSTER BAY UNIT. Portions of the landward boundary of the unit have been modified to account for shoreline erosion along Leinster Bay and natural changes that have occurred in the wetland/fastland interface.

VI-19P: RAM HEAD UNIT. Lateral offshore boundaries have been added to the eastern and western ends of the unit to clarify the extent of the unit. No modifications were made to the boundaries of this unit as a result of changes due to natural forces.

VI-27: LIMESTONE BAY UNIT. Portions of the landward boundary of the unit were modified to reflect natural changes that have occurred in the configuration of the marsh adjacent to Limestone Bay.

VI-29: MAGENS BAY UNIT. Portions of the landward boundary of the unit have been modified to account for natural changes that have occurred in the configuration of the shoreline along Magens Bay.

VI-32: VESSUP BAY UNIT. An offshore boundary has been added to the unit in Vessup Bay to clarify the extent of the unit. No modifications were made to the boundaries of this unit as a result of changes due to natural forces.

VI-34: JERSEY BAY UNIT. Portions of the landward boundary of the unit have been modified to account for natural changes that have occurred in the configuration of the shoreline and wetland/fastland interface. The eastern lateral boundary has been extended offshore to clarify the extent of the unit.

Request for Comments

The CBRA requires consultation with the appropriate Federal, State, and local officials on the proposed CBRS boundary modifications to reflect changes that have occurred in the size or location of any CBRS unit as a result of natural forces (16 U.S.C. 3503(c)). We invite interested Federal, State, and local officials to review and comment on the draft maps for 14 CBRS units in Louisiana, all units in Puerto Rico, and all units in the U.S. Virgin Islands. The Service is specifically notifying the following stakeholders concerning the availability of the draft maps and opportunity to provide comments on the proposed boundary modifications: The Chair and Ranking Member of the House of Representatives Committee on Natural Resources; the Chair and Ranking Member of the Senate Committee on Environment and Public Works; the members of the Senate and House of Representatives for the affected areas; the Governors of the affected areas; the local elected officials of the affected areas; and the appropriate Federal, State, and local agency officials.

Federal, State, and local officials may submit written comments and accompanying data to the individual and location identified in the ADDRESSES section above. We will also accept digital Geographic Information System (GIS) data files that are accompanied by written comments. Comments regarding specific units should reference the appropriate CBRS unit number and unit name. Please note that boundary modifications through this process can only be made to reflect changes that have occurred in the size or location of any CBRS unit as a result of natural forces, voluntary additions to the CBRS, or additions of excess Federal property to the CBRS (as authorized under 16 U.S.C. 3503(c)-(e)); other requests for changes to the CBRS will not be considered at this time. We must receive comments on or before the date listed in DATES.

Availability of Draft Maps and Related Information

The draft maps and digital boundary data can be accessed and downloaded from the Service's Web site: http://www.fws.gov/ecological-services/habitat-conservation/Coastal.html. The digital boundary data are available for reference purposes only. The digital boundaries are best viewed using the base imagery to which the boundaries were drawn; this information is printed in the title block of the draft maps. The Service is not responsible for any misuse or misinterpretation of the digital boundary data.

Interested parties may also contact the Service individual identified in the FOR FURTHER INFORMATION CONTACT section of this notice to make arrangements to view the draft maps at the Service's Headquarters office. Interested parties who are unable to access the draft maps via the Service's Web site or at the Service's Headquarters office may contact the Service individual identified in the FOR FURTHER INFORMATION CONTACT section above, and reasonable accommodations will be made to ensure the individual's ability to view the draft maps.

Public Availability of Comments

Before including your address, phone number, email address, or other personal identifying information in your comment, you should be aware that your entire comment—including your personal identifying information—may be made publicly available at any time. While you can ask us in your comment to withhold your personal identifying information from public review, we cannot guarantee that we will be able to do so.

Gary Frazer,
Assistant Director for Ecological Services.

[FR Doc. 2016-24461 Filed 10-7-16; 8:45 am]

BILLING CODE 4333-15-P